DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: 2018 National Survey on Drug Use and Health (OMB No. 0930-0110)—Revision

The National Survey on Drug Use and Health (NSDUH) is a survey of the U.S. civilian, non-institutionalized population aged 12 years old or older. The data are used to determine the prevalence of use of tobacco products, alcohol, illicit substances, and illicit use of prescription drugs. The results are used by SAMHSA, the Office of National Drug Control Policy (ONDCP), federal government agencies, and other organizations and researchers to establish policy, direct program activities, and better allocate resources.

While NSDUH must be updated periodically to reflect changing substance use and mental health issues and to continue producing current data, for the 2018 NSDUH only the following minor changes are planned: (1) At the request of ONDCP, re-inserted the marijuana marketplace module, previously included in the 2014 NSDUH (as well as prior years), into the respondent-administered portion of the 2018 questionnaire; (2) the addition of four new questions, asked only of respondents age 18 and older, about the perception of problems with and recovery from drug/alcohol and mental health problems; and (3) included other minor wording changes to improve the flow of the interview, increase respondent comprehension or to be consistent with text in other questions.

The marijuana marketplace module consists of a series of questions that seek to gather data such as the location, quantity, cost and type of marijuana being purchased across the nation. This module is unchanged from the version last included in the 2014 NSDUH. As with all NSDUH/NHSDA surveys conducted since 1999, the sample size of the survey for 2018 will be sufficient to permit prevalence estimates for each of the fifty states and the District of Columbia. Prior to 2002, the NSDUH was referred to as the National Household Survey on Drug Abuse (NHSDA).

The total annual burden estimate is shown below.

Annualized Estimated Burden for 2018 NSDUH
Instrument | Number of respondents | Responses per respondent | Total number of responses | Hours per response | Total burden hours
Household Screening | 133,586 | 1 | 133,586 | 0.083 | 11,088
Interview | 67,507 | 1 | 67,507 | 1.000 | 67,507
Screening Verification | 4,008 | 1 | 4,008 | 0.067 | 269
Interview Verification | 10,126 | 1 | 10,126 | 0.067 | 678
Total | 133,586 |  | 215,227 |  | 79,542

Written comments and recommendations concerning the proposed information collection should be sent by July 21, 2017 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2017-12909 Filed 6-20-17; 8:45 am]

BILLING CODE 4162-20-P